DEPARTMENT OF THE INTERIOR

National Park Service

[NPS-WASO-NAGPRA-NPS0030085; PPWOCRADN0-PCU00RP14.R50000]

Notice of Inventory Completion: Arizona Museum of Natural History, Mesa, AZ

AGENCY: National Park Service, Interior.

ACTION: Notice.

SUMMARY: The Arizona Museum of Natural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Arizona Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Arizona Museum of Natural History at the address in this notice by June 15, 2020.

ADDRESSES: Melanie Deer, Arizona Museum of Natural History, 53 N MacDonald, Mesa, AZ 85201, telephone (480) 644-4381, email melanie.deer@mesaaz.gov.

SUPPLEMENTARY INFORMATION: Notice is here given in accordance with the Native American Graves Protection and Repatriation Act (NAGPRA), 25 U.S.C. 3003, of the completion of an inventory of human remains and associated funerary objects under the control of the Arizona Museum of Natural History, Mesa, AZ. The human remains and associated funerary objects were removed from various locations in AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Arizona Museum of Natural History professional staff in consultation with representatives of the Gila River Indian Community of the Gila River Indian Reservation, Arizona; Hopi Tribe of Arizona; and the Salt River Pima-Maricopa Indian Community of the Salt River Reservation, Arizona.

History and Description of the Remains

In 1979, human remains representing, at minimum, one individual were removed near Florence, Pinal County, AZ. On August 4, 1984 they were donated to the Arizona Museum of Natural History by Al Heimer (presumably the person who excavated them). No known individual was identified. No associated funerary objects are present.

Based on current archeological evidence, the region where these human remains were collected was occupied in prehistoric times by people belonging to the Hohokam Material Culture. Based on current archeological and ethnographic evidence, these people are ancestral to the Four Southern Tribes of Arizona (i.e., the Tohono O'odham Nation, Gila River Indian Community, Salt River-Pima Maricopa Indian Community, and Ak-Chin Indian Community) and the Hopi Tribe. The Four Southern Tribes of Arizona divide their ancestral lands such that each Tribe oversees those portions closest to their reservations. The Florence area is primarily Gila River Indian Community ancestral land.

Sometime prior to December 29, 1984, human remains representing, at minimum, one individual were removed from land in AZ. This individual was donated to the Arizona Museum of Natural History on December 29, 1984 by Gregory Brooks, a resident of Chandler, Maricopa County, AZ. No known individual was identified. The one associated funerary object is one lot of ceramic sherds.

Based on the style of the ceramics, the human remains and object are related to people belonging to the prehistoric Hohokam Material Culture, who are ancestral to the Four Southern Tribes of Arizona (i.e., the Tohono O'odham Nation, Gila River Indian Community, Salt River-Pima Maricopa Indian Community, and Ak-Chin Indian Community) and the Hopi Tribe. Maricopa County is primarily Gila River Indian Community and Salt River Pima-Maricopa Indian Community ancestral land, and the Chandler area is primarily Gila River Indian Community ancestral land.

Sometime prior to November 20, 1980, human remains representing, at minimum, two individuals were removed from land in AZ. On November 20, 1980, William Chesley facilitated the anonymous donation of the human remains to the Arizona Museum of Natural History. No known individuals were identified. The four associated funerary objects are three ceramic jars and one ceramic bowl.

Based on the style of the ceramics, the human remains and objects are related to people belonging to the prehistoric Hohokam Material Culture. Based on archeological and ethnographic evidence, these people are ancestral to the Four Southern Tribes of Arizona (i.e., the Tohono O'odham Nation, Gila River Indian Community, Salt River-Pima Maricopa Indian Community, and Ak-Chin Indian Community) and the Hopi Tribe. As the facilitator (Chesley) also made a donation to the museum that originated from the Pettijohn Site in Stanfield, Pinal County, AZ, which is on Gila River Indian Community ancestral land, the Gila River Indian Community and Salt River Pima-Maricopa Indian Community have decided that the Gila River Indian Community would take the lead with respect to these human remains and objects.

Sometime prior to November 17, 1977, human remains representing, at minimum, one individual were removed from the Pettijohn Site in Stanfield, Pinal County, AZ. On November 17, 1977, the human remains were donated to the Arizona Museum of Natural History by William Chesley. No known individual was identified. The one associated funerary object is a ceramic jar.

Although no information is known about the Pettijohn Site itself, based on the style of the ceramic jar and the location of the site, the human remains and object are related to people belonging to the prehistoric Hohokam Material Culture, who are ancestral to the Four Southern Tribes of Arizona (i.e., the Tohono O'odham Nation, Gila River Indian Community, Salt River-Pima Maricopa Indian Community, and Ak-Chin Indian Community) and the Hopi Tribe. The Pettijohn Site is primarily Gila River Indian Community ancestral land.

On November 30, 1983, human remains representing, at minimum, two individuals were removed from a house in Mesa, Maricopa County, AZ. These individuals were found by a construction crew, who alerted the Mesa Police Department. The human remains were determined to be associated with a prehistoric site. Subsequently, they were donated to the Arizona Museum of Natural History. No known individuals were identified. The one associated funerary object is a shell bracelet.

Based on current archeological evidence, the region where these human remains were collected was occupied in prehistoric times by people belonging to the Hohokam Material Culture. Based on archeological and ethnographic evidence, these people are ancestral to the Four Southern Tribes of Arizona (i.e., the Tohono O'odham Nation, Gila River Indian Community, Salt River-Pima Maricopa Indian Community, and Ak-Chin Indian Community) and the Hopi Tribe. The Mesa area is primarily Salt River Pima-Maricopa Indian Community ancestral land.

From 1979 to 1991, human remains representing, at minimum, 75 individuals were removed from Park of the Canals in Mesa, Maricopa County, AZ. This portion of the site was excavated by the Southwest Archaeological Team, led by Sam Baar. No known individuals were identified. The eight associated funerary objects are ceramic vessels.

Based on the style of the ceramics and the location of the site, the human remains and objects are related to people belonging to the Hohokam Material Culture. Based on current archeological and ethnographic evidence, these people are ancestral to the Four Southern Tribes of Arizona (i.e., the Tohono O'odham Nation, Gila River Indian Community, Salt River-Pima Maricopa Indian Community, and Ak-Chin Indian Community) and the Hopi Tribe. The Mesa area is primarily Salt River Pima-Maricopa Indian Community ancestral land.

In 2005, 2010, and 2011, human remains representing, at minimum, four individuals were removed from the Riverview site in Mesa, Maricopa County, AZ. No known individuals were identified. The two associated funerary objects are one ceramic bowl and one lot of sherds.

Based on the style of the ceramics and the location of the site, the human remains and objects are related to people belonging to the Hohokam Material Culture. Based on current archeological and ethnographic evidence, these people are ancestral to the Four Southern Tribes of Arizona (i.e., the Tohono O'odham Nation, Gila River Indian Community, Salt River-Pima Maricopa Indian Community, and Ak-Chin Indian Community) and the Hopi Tribe. The Mesa area is primarily Salt River Pima-Maricopa Indian Community ancestral land.

Prior to 2018, human remains representing, at minimum, 11 individuals were removed from AZ. The human remains were found during the cleaning of an archeological lab at the Arizona Museum of Natural History used for studying prehistoric Hohokam Material Culture. No known individuals were identified. The nine associated funerary objects are one lot of corn, one lot of beans, two lots of stones, one lot of possible asbestos, one ceramic bowl, two lots of sherds, and one lot of soil associated with cremation.

Based on the lab's use, the human remains and objects are related to people belonging to the prehistoric Hohokam Material Culture. Based on archeological and ethnographic evidence, these people are ancestral to the Four Southern Tribes of Arizona (i.e., the Tohono O'odham Nation, Gila River Indian Community, Salt River-Pima Maricopa Indian Community, and Ak-Chin Indian Community) and the Hopi Tribe.

Sometime prior to 1982, human remains representing, at minimum, one individual were removed from Mesa Grande in Mesa, Maricopa County, AZ. The human remains were excavated by Midvale and donated to the Arizona Museum of Natural History in 1982. No known individual was identified. The two associated funerary objects are one burn corn and one lot of ceramic sherds.

Based on the style of the ceramics and location of the site, the human remains and objects are related to people belonging to the prehistoric Hohokam Material Culture. Based on current archeological and ethnographic evidence, theses people are ancestral to the Four Southern Tribes of Arizona (i.e., the Tohono O'odham Nation, Gila River Indian Community, Salt River-Pima Maricopa Indian Community, and Ak-Chin Indian Community) and the Hopi Tribe. The Mesa Grande site is primarily Salt River Pima-Maricopa Indian Community ancestral land.

Determinations Made by the Arizona Museum of Natural History

Officials of the Arizona Museum of Natural History have determined that:

• Pursuant to 25 U.S.C. 3001(9), the human remains described in this notice represent the physical remains of 98 individuals of Native American ancestry.

• Pursuant to 25 U.S.C. 3001(3)(A), the 28 objects described in this notice are reasonably believed to have been placed with or near individual human remains at the time of death or later as part of the death rite or ceremony.

• Pursuant to 25 U.S.C. 3001(2), there is a relationship of shared group identity that can be reasonably traced between the Native American human remains and associated funerary objects and the Ak-Chin Indian Community (previously listed as Ak Chin Indian Community of the Maricopa (Ak Chin) Indian Reservation, Arizona); Gila River Indian Community of the Gila River Indian Reservation, Arizona; Hopi Tribe of Arizona; Salt River Pima-Maricopa Indian Community of the Salt River Reservation, Arizona; and the Tohono O'odham Nation of Arizona (hereafter referred to as “The Tribes”).

Additional Requestors and Disposition

Lineal descendants or representatives of any Indian Tribe or Native Hawaiian organization not identified in this notice that wish to request transfer of control of these human remains and associated funerary objects should submit a written request with information in support of the request to Melanie Deer, Arizona Museum of Natural History, 53 N MacDonald, Mesa, AZ 85201, telephone (480) 644-4381, email melanie.deer@mesaaz.gov, by June 15, 2020. After that date, if no additional requestors have come forward, transfer of control of the human remains and associated funerary objects to The Tribes may proceed.

The Arizona Museum of Natural History is responsible for notifying The Tribes that this notice has been published.

Dated: March 25, 2020.
Melanie O'Brien,
Manager, National NAGPRA Program.

[FR Doc. 2020-10344 Filed 5-13-20; 8:45 am]

BILLING CODE 4312-52-P